DEPARTMENT OF COMMERCE

National Oceanic and Atmospheric Administration

Notice of Availability of a Draft Programmatic Environmental Assessment for U.S. Integrated Ocean Observing System (IOOS®) Projects

AGENCY: National Ocean Service, National Oceanic and Atmospheric Administration (NOAA), Department of Commerce.

ACTION: Request for comments.

SUMMARY: The Integrated Coastal and Ocean Observation System (ICOOS) Act of 2009 mandated the establishment of the U.S. Integrated Ocean Observing System with NOAA as lead Federal agency. NOAA's U.S. IOOS program seeks comment on a draft programmatic environmental assessment (PEA) of the observing activities regularly occurring in the environment as a direct result of cooperative agreements funded by this program. Technologies proposed for deployment and observational activities under U.S. IOOS are categorized into the following groups: sensors and instrumentation; vessels (including personal watercraft) and sampling; AUVs, gliders, and drifters; moorings, marine stations, buoys, and fixed arrays; HF radar; and sound navigation and ranging (sonar) and light detection and ranging (lidar). These observing activities support the core mission of U.S. IOOS: systematic provision of readily accessible marine environmental data and data products in an interoperable, reliable, timely, and user-specified manner to end-users/customers to serve seven critical and expanding societal needs:

1. Improve predictions of climate change and weather and their effects on coastal communities and the nation;

2. Improve the safety and efficiency of maritime operations;

3. More effectively mitigate the effects of natural hazards;

4. Improve national and homeland security;

5. Reduce public health risks;

6. More effectively protect and restore healthy coastal ecosystems; and

7. Enable the sustained use of ocean and coastal resources.

DATE AND TIME: The draft PEA is available for public review and comment through April 30, 2014.

ADDRESSES: If you wish to comment on the draft PEA, you may email comments to Regina Evans at regina.evans@noaa.gov.

FOR FURTHER INFORMATION CONTACT: Regina Evans, U.S. IOOS, Regions Budget & Policy Division, 1100 Wayne Avenue, Suite 1225, Silver Spring, MD 20910; Phone 301-427-2422; Fax 301-427-2073; Email regina.evans@noaa.gov.

SUPPLEMENTARY INFORMATION: The draft PEA for U.S. IOOS is available online at http://ioos.noaa.gov/about/governance/environmental_compliance.html.

Authority: Integrated Coastal and Ocean Observation System Act of 2009 (33 U.S.C. 3601-3610).

Dated: March 18, 2014.
Zdenka S. Willis,
Director, U.S. Integrated Ocean Observing System.

[FR Doc. 2014-07225 Filed 3-31-14; 8:45 am]

BILLING CODE 3510-22-P